DEPARTMENT OF COMMERCE

International Trade Administration

[A-580-836]

Certain Cut-To-Length Carbon-Quality Steel Plate from the Republic of Korea: Rescission of Antidumping Duty Administrative Review

AGENCY: Import Administration, International Trade Administration, Department of Commerce.

ACTION: Notice of Rescission of Antidumping Duty Administrative Review.

EFFECTIVE DATE : August 9, 2002.

FOR FURTHER INFORMATION CONTACT: Timothy Finn or Howard Smith at (202) 482-0065 or (202) 482-5193, respectively; AD/CVD Enforcement, Office 4, Group II, Import Administration, International Trade Administration, U.S. Department of Commerce, 14th Street and Constitution Avenue, NW, Washington, DC 20230.

SUPPLEMENTARY INFORMATION:

The Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department's regulations are to the regulations at 19 CFR Part 351 (2002).

Background

On February 1, 2002, the Department of Commerce (the Department) published a notice of opportunity to request administrative reviews of the antidumping duty orders on certain cut-to-length carbon-quality steel plate (CTL plate) from France, Italy, Indonesia, India, Japan, and the Republic of Korea covering the period February 1, 2001, through January 31, 2002 (67 FR 4945, 4946).

On March 20, 2002, pursuant to separate requests made by Bethlehem Steel Corporation and United States Steel Corporation (collectively “the petitioners”) and Nucor Corporation (Nucor), a domestic interested party, the Department initiated administrative reviews of the antidumping duty orders on CTL plate from the above-named countries (67 FR 14696, 14697)(March 27, 2002). On April 26, 2002, the petitioners withdrew their request for the administrative reviews of CTL plate from France, Italy, Indonesia, India, Japan, and Korea. However, Nucor did not withdraw its request for an administrative review of CTL plate from Korea. Therefore, in accordance with 19 CFR 351.213(d)(1), on May 20, 2002, the Department rescinded the administrative reviews initiated with respect to France, Italy, Indonesia, India and Japan. See Certain Cut-To-Length Carbon-Quality Steel Plate from France, Italy, Indonesia, India, and Japan: Rescission of Antidumping Duty Administrative Review, 67 FR 36855 (May, 28, 2002). Subsequently, on June 18, 2002, Nucor withdrew its request for the administrative review of CTL plate from Korea.

Rescission of Review

Section 351.213(d)(1) of the Department's regulations provides that a party that requests an administrative review may withdraw the request within 90 days after the date of publication of the notice of initiation of the requested administrative review. The Department is rescinding the administrative review of the order on CTL plate from Korea for the period February 1, 2001 through January 31, 2002 because the requesting parties have withdrawn their requests for this administrative review within the 90-day time limit and no other interested parties have requested a review of CTL plate from Korea for this time period.

This notice is in accordance with section 777(i)(1) of the Act and 19 CFR 351.213(d)(4).

Dated: August 2, 2002.
Bernard T. Carreau,
Deputy Assistant Secretary for Import Administration.

[FR Doc. 02-20234 Filed 8-8-02; 8:45 am]

BILLING CODE 3510-DS-S